COMMISSION ON CIVIL RIGHTS

Agenda and Notice of Public Meeting of the Delaware Advisory Committee

Notice is hereby given, pursuant to the provisions of the rules and regulations of the U.S. Commission on Civil Rights (Commission) and the Federal Advisory Committee Act (FACA) that a planning meeting of the Delaware Advisory Committee to the Commission will convene at 1:00 p.m. (EDT) on Friday, August 29, 2014, at the offices of Young Conaway Stargatt & Taylor, LLP, located at 1000 N. King Street, Wilmington, DE 19801. The purpose of the meeting is to discuss and plan the Committee's civil rights project to review efforts by school districts in Delaware to address discriminatory school disciplinary policies and practices, with a special emphasis on the Christina School District.

Members of the public are entitled to submit written comments. The comments must be received in the regional office by Friday, September 29, 2014. Comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at 202-376-7533.

Persons needing accessibility services should contact the Eastern Regional Office at least 10 working days before the scheduled date of the meeting.

Records generated from this meeting may be inspected and reproduced at the Eastern Regional Office, as they become available, both before and after the meeting. Persons interested in the work of this advisory committee are advised to go to the Commission's Web site, www.usccr.gov, or to contact the Eastern Regional Office at the above phone number, email or street address.

The meetings will be conducted pursuant to the provisions of the rules and regulations of the Commission and FACA.

Dated on July 31, 2014.
David Mussatt,
Chief, Regional Programs Coordination Unit.

[FR Doc. 2014-18484 Filed 8-4-14; 8:45 am]

BILLING CODE 6335-01-P